DEPARTMENT OF HOMELAND SECURITY

Federal Emergency Management Agency

44 CFR Part 67

[Docket No. FEMA-B-7471]

Proposed Flood Elevation Determinations

AGENCY: Federal Emergency Management Agency (FEMA), Department of Homeland Security, Mitigation Division.

ACTION: Proposed rule.

SUMMARY: Technical information or comments are requested on the proposed Base (1% annual chance) Flood Elevations (BFEs) and proposed BFEs modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr., Engineering Management Section, Mitigation Division, 500 C Street SW., Washington, DC 20472, (202) 646-3151.

SUPPLEMENTARY INFORMATION: FEMA proposes to make determinations of BFEs and modified BFEs for each community listed below, in accordance with Section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act. This proposed rule is categorically excluded from the requirements of 44 CFR Part 10, Environmental Consideration. No environmental impact assessment has been prepared.

Regulatory Flexibility Act. As flood elevation determinations are not within the scope of the Regulatory Flexibility Act, 5 U.S.C. 601-612, a regulatory flexibility analysis is not required.

Regulatory Classification. This proposed rule is not a significant regulatory action under the criteria of Section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

List of Subjects in 44 CFR Part 67

Administrative practice and procedure, flood insurance, reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD). + Elevation in feet (NAVD). # Depth in feet above ground: Effective | * Elevation in feet (NGVD). + Elevation in feet (NAVD). # Depth in feet above ground: Modified | Communities affected
Kemper County, Mississippi, and Incorporated Areas
Hull Branch | Approximately 10,360 feet upstream of Old Jackson Road | None | +336 | Kemper County (Unincorporated Areas).
| At the confluence of Snoody Creek | None | +383
Okatibbe Creek | Approximately 2,340 feet upstream of Bull Swamp Road | None | +374 | Kemper County (Unincorporated Areas).
| At the confluence with Houston Creek | None | +408
Snoody Creek | At the confluence with Hull Branch | None | +327 | Town of De Kalb, Kemper County (Unincorporated Areas).
| Approximately 2,290 feet downstream of State Road 39 | None | +336
ADDRESSES
Unincorporated Areas of Kemper County
Maps are available for inspection at Kemper County Courthouse, 100 Main Street, De Kalb, MS 39328.
Send comments to Mr. James Granger, Board Chairman, Kemper County, P.O. Box 188, De Kalb, MS 39328.
Town of De Kalb
Maps are available for inspection at Kemper County Courthouse, 100 Main Street, De Kalb, MS 39328.
Send comments to The Honorable Homer Hall, Mayor, P.O. Box 579, De Kalb, MS 39328.
Ozaukee County, Wisconsin, and Incorporated Areas
Canyon Creek | At mouth of Lake Michigan | ¹ *590 | ¹ *590 | City of Port Washington, Unincorporated Areas of Ozaukee County.
| At intersection of Interstate 43 | None | *701
Cedar Creek | At mouth at Milwaukee River | *680 | *679 | City of Cedarburg, Village of Grafton, Unincorporated Areas of Ozaukee County.
| 6450 feet upstream of County Highway Y | *838 | *836
Fredonia Creek | At mouth at Milwaukee River | ¹ *780 | ¹ *781 | Village of Fredonia, Unincorporated Areas of Ozaukee County.
| 2500 feet upstream from County Highway D | None | *831
Milwau­kee River | At County Line Road | *653 | *653 | Village of Thiens­ville.
| Downstream of northern crossing of Riverside Road | *798 | *798 | City of Mequon, Village of Grafton.
| Upstream of south crossing of Riverside Road | *805 | *805 | Village of Saukville, Village of Fredonia.
| Downstream of Hickory Road | *835 | *835 | Village of Newburg, Unincorporated Areas of Ozaukee County.
Mineral Springs | At mouth at Sauk Creek | ¹ *590 | ¹ *590 | City of Port Washington.
| 300 feet upstream from State Highway 32 | None | *719
Mole Creek | At mouth at Milwaukee River | ¹ *746 | ¹ *746 | Village of Grafton, Unincorporated Areas of Ozaukee County.
| 600 feet upstream of Center Road | None | *818
North Branch of Milwaukee River | At mouth at Milwaukee River | *797 | *798 | Unincorporated Areas of Ozaukee County.
| Downstream of northern crossing of Riverside Road | *799 | *799
Pigeon Creek | At mouth at Milwaukee River approximately 100 feet downstream from Green Bay Road | ¹ *660 | ¹ *660 | Village of Thiens­ville, City of Mequon.
| 1900 feet upstream of Highland Road | None | *732
Sauk Creek | At mouth of Lake Michigan | ¹ *590 | *590 | City of Port Washington, Village of Belgium, Unincorporated Areas of Ozaukee County.
| 2000 feet upstream of County Highway KK | None | *796
Ulao Creek | At mouth at Milwaukee River | None | ¹ *664 | City of Mequon, Village of Grafton, Unincorporated Areas of Ozaukee County.
| 2300 feet upstream of State Highway 32 | None | *744
Un-named Tributary #1 to Belgium Holland Drainage Ditch | At intersection with County Highway K | None | *720 | Village of Belgium, Unincorporated Areas of Ozaukee County.
| 100 feet downstream of Park Street | None | *731
Un-named Tributary #1 to Belgium Holland Drainage Ditch Overflow #1 | At the downstream confluence of Un-named Tributary #1 to Belgium Holland Drainage Ditch | None | *723 | Unincorporated Areas of Ozaukee County.
| At the upstream overflow from Un-named Tributary #1 to Belgium Holland Drainage Ditch (750 feet downstream of Park St) | None | *724
Un-named Tributary #1 to Belgium Holland Drainage Ditch Overflow #2 | At the confluence of Un-named Tributary #1 to Belgium Holland Drainage Ditch | None | *730 | Village of Belgium, Unincorporated Areas of Ozaukee County.
| At the upstream overflow of Un-named Tributary #1 to Belgium Holland Drainage Ditch (2750 feet downstream of Jay Road) | None | *730
Un-named Tributary #1 to Milwaukee River | At mouth of the Milwaukee River | ¹ *759 | ¹ *758 | Village of Saukville.
| 1690 feet upstream of Dekora Woods Boulevard | None | *775
Un-named Tributary #1 to Ulao Creek | At mouth of Ulao Creek | None | *664 | City of Mequon.
| 1700 feet upstream of County Highway W | None | *673
Un-named Tributary to Un-named Tributary #1 to Ulao Creek | At mouth of Un-named Tributary #1 to Ulao Creek | None | *664 | City of Mequon.
| 6750 feet upstream of Interstate 43 | None | *673
Un-named Tributary #2 to Pigeon Creek | At mouth of Pigeon Creek | None | *623 | City of Mequon, City of Cedar­burg, Unincorporated Areas of Ozaukee County.
| 2300 feet upstream of State Highway 181 | None | *806
Un-named Tributary #3 to Milwaukee River | 200 feet downstream of Wheeler ­Avenue | *791 | *791 | Village of Fredonia.
| 500 feet upstream of Meadowbrook Drive | *798 | *798
* National Geodetic Vertical Datum.
# Depth in feet above ground.
+ North American Vertical Datum.
¹ Flood Elevation based on Backwater.
ADDRESSES:
Village of Belgium
Maps are available for inspection at 195 Commerce St., Belgium, WI 53004-0224.
Send comments to Donald Schommer, Village President, 820 North St., Belgium, WI 53004.
City of Cedarburg
Maps are available for inspection at W63 N645 Washington Avenue, Cedarburg, WI 53012-0049.
Send comments to Gregory P. Myers, Mayor, W63 N645 Washington Avenue, Cedarburg, WI 53012-0049.
Village of Fredonia
Maps are available for inspection at Village Hall, 416 Fredonia Ave., Fredonia, WI 53021.
Send comments to William Hamm, Village President, P.O. Box 159, 416 Fredonia Ave Fredonia, WI 53021.
Village of Grafton:
Maps are available for inspection at Village Hall—Thomas Johnson, 1971 Washington St., Grafton, WI 53024.
Send comments to Jim Brunquell, Village President, 1971 Washington St., Grafton, WI 53024.
City of Mequon
Maps are available for inspection at 11333 N. Cedarburg Road, Mequon, WI 53092.
Send comments to Christine Nuernberg, Mayor, 11333 N. Cedarburg Road, Mequon, WI 53092.
Village of Newburg
Maps are available for inspection at Village Hall, 614 Main St., Newburg, WI 53060.
Send comments to William Sackett, Village President, 614 Main Street, P.O. Box 50, Newburg, WI 53060.
Unincorporated Areas of Ozaukee County
Maps are available for inspection at Planning, Resources, and Land Management Department 121 West Main Street, P.O. Box 994, Port Washington, WI 53704-0994.
Send comments to Robert Brooks, County Board Chairperson, 121 West Main Street, Port Washington, WI 53704.
City of Port Washington
Maps are available for inspection at Office of Planning and Development, 100 W. Grand Avenue, Port Washington, WI 53074.
Send comments to Scott Huebner, Mayor, 100 W. Grand Avenue, P.O. Box 307, Port Washington, WI 53074.
Village of Saukville
Maps are available for inspection at Planning Department, 639 East Green Bay Ave., Saukville, WI 53080.
Send comments to Dawn Wagner, Village Administrator, 639 East Green Bay Ave, Saukville, WI 53080.
Village of Thiensville
Maps are available for inspection at 250 Elm Street, Thiensville, WI 53092.
Send comments to Karl V. Herts, Village President, 250 Elm Street.

(Catalog of Federal Domestic Assistance No. 83.100, “Flood Insurance.”)

Dated: October 6, 2006.
David I. Maurstad,
Director, Mitigation Division, Federal Emergency Management Agency, Department of Homeland Security.

[FR Doc. E6-17270 Filed 10-16-06; 8:45 am]

BILLING CODE 9110-12-P